DEPARTMENT OF TRANSPORTATION

Federal Aviation Administration

14 CFR Part 39

[Docket No. FAA-2013-0888; Directorate Identifier 2013-CE-024-AD; Amendment 39-17735; AD 2014-02-07]

RIN 2120-AA64

Airworthiness Directives; Costruzioni Aeronautiche Tecnam srl Airplanes

AGENCY: Federal Aviation Administration (FAA), Department of Transportation (DOT).

ACTION: Final rule.

SUMMARY: We are adopting a new airworthiness directive (AD) for Costruzioni Aeronautiche Tecnam srl Model P2006T airplanes. This AD results from mandatory continuing airworthiness information (MCAI) issued by an aviation authority of another country to identify and correct an unsafe condition on an aviation product. The MCAI describes the unsafe condition as cracks of the nose landing gear (NLG) lower link. We are issuing this AD to require actions to address the unsafe condition on these products.

DATES: This AD is effective March 14, 2014.

The Director of the Federal Register approved the incorporation by reference of certain publications listed in the AD as of March 14, 2014.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact Costruzioni Aeronautiche Tecnam Airworthiness Office, Via Maiorise-81043 Capua (CE) Italy; telephone: +39 0823 620134; fax: +39 0823 622899; email: m.oliva@tecnam.com or g.paduano@tecnam.com; Internet: www.tecnam.com/it-IT/documenti/service-bulletins.aspx. You may view this referenced service information at the FAA, Small Airplane Directorate, 901 Locust, Kansas City, Missouri 64106. For information on the availability of this material at the FAA, call (816) 329-4148.

FOR FURTHER INFORMATION CONTACT: Albert Mercado, Aerospace Engineer, FAA, Small Airplane Directorate, 901 Locust, Room 301, Kansas City, Missouri 64106; telephone: (816) 329-4119; fax: (816) 329-4090; email: albert.mercado@faa.gov.

SUPPLEMENTARY INFORMATION:

Discussion

We issued a notice of proposed rulemaking (NPRM) to amend 14 CFR part 39 to include an AD that would apply to Costruzioni Aeronautiche Tecnam srl Model P2006T airplanes. That NPRM was published in the Federal Register on October 25, 2013 (78 FR 63907). That NPRM proposed to correct an unsafe condition for the specified products. The MCAI states:

During an inspection of a P2006T, a nose landing gear (NLG) lower link was found with two cracks. The affected NLG lower link is part of NLG lower link assembly P/N 26-8-1417-000.

This condition, if not detected and corrected, could lead to NLG failure, possibly resulting in damage to the aeroplane and injury to the occupants.

To address this potential unsafe condition, Costruzioni Aeronautiche Tecnam (hereafter referred to as Tecnam) issued Service Bulletin (SB) SB-128-CS, providing inspection instructions. Tecnam also developed an improved NLG lower link assembly with P/N 26-8-8000-000, which can be installed in service by accomplishment of Tecnam SB-104-CS.

For the reasons described above, this AD requires, for aeroplanes equipped with NLG lower link assembly P/N 26-8-1417-000, a one-time inspection of the NLG lower link and, depending on findings, accomplishment of the applicable corrective action. This AD also requires installation of the improved NLG lower link assembly P/N 26-8-8000-000.

The MCAI can be found in the AD docket on the Internet at: http://www.regulations.gov/#!searchResults;rpp=25;po=0;s=FAA-2013-0888;fp=true;ns=true.

Comments

We gave the public the opportunity to participate in developing this AD. We received no comments on the NPRM (78 FR 63907, October 25, 2013) or on the determination of the cost to the public.

Conclusion

We reviewed the relevant data, considered the comments received, and determined that air safety and the public interest require adopting the AD as proposed except for minor editorial changes. We have determined that these minor changes:

• Are consistent with the intent that was proposed in the NPRM (78 FR 63907, October 25, 2013) for correcting the unsafe condition; and

• Do not add any additional burden upon the public than was already proposed in the NPRM (78 FR 63907, October 25, 2013).

Costs of Compliance

We estimate that this AD will affect 7 products of U.S. registry. We also estimate that it would take about .5 work-hour per product to comply with the basic requirements of this AD. The average labor rate is $85 per work-hour.

Based on these figures, we estimate the cost of the AD on U.S. operators to be $297.50, or $42.50 per product.

In addition, we estimate that any necessary follow-on actions would take about 6 work-hours and require parts costing $1,800, for a cost on U.S. operators of $16,170, or $2,310 per product. We have no way of determining the number of products that may need these actions.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-02-07 Costruzioni Aeronautiche Tecnam srl: Amendment 39-17735; Docket No. FAA-2013-0888; Directorate Identifier 2013-CE-024-AD.

(a) Effective Date

This airworthiness directive (AD) becomes effective March 14, 2014.

(b) Affected ADs

None.

(c) Applicability

This AD applies to Costruzioni Aeronautiche Tecnam srl Model P2006T airplanes, serial numbers (S/N) 001/US through S/N 9999/US, certificated in any category.

(d) Subject

Air Transport Association of America (ATA) Code 32: Landing Gear.

(e) Reason

This AD was prompted by mandatory continuing airworthiness information (MCAI) originated by an aviation authority of another country to identify and correct an unsafe condition on an aviation product. The MCAI describes the unsafe condition as cracking of the nose landing gear (NLG) lower link. We are issuing this AD to detect and correct cracks in an NLG lower link, which could lead to NLG failure, possibly resulting in damage to the airplane and injury to the occupants.

(f) Actions and Compliance

Unless already done, do the following actions as specified in paragraphs (f)(1) through (f)(5) of this AD:

(1) For airplanes with an NLG lower link assembly part number (P/N) 26-8-1417-000 installed, within the next 25 hours time-in-service (TIS) after March 14, 2014 (the effective date of this AD) or within the next 30 days after March 14, 2014 (the effective date of this AD), whichever occurs first, do a detailed inspection of the NLG lower link P/N 26-8-1417-1 (this is in the NLG-000 assembly) following Costruzioni Aeronautiche Tecnam Service Bulletin No. SB 128-CS, Revision 0, dated May 15, 2013.

(2) If a crack is detected during the inspection required by paragraph (f)(1) of this AD, before further flight, replace the NLG lower link assembly with an improved assembly. Follow the instructions in Costruzioni Aeronautiche Tecnam Job Card 442, P2006T NLG upper link replacement, Revision 1, dated February 11, 2013; Costruzioni Aeronautiche Tecnam Job Card 468, New NLG Spring replacement, dated October 12, 2012; or Costruzioni Aeronautiche Tecnam Job Card 528, P2006T NLG retraction spring installation, Revision 1, dated April 2, 2013, as applicable, as specified in Costruzioni Aeronautiche Tecnam Service Bulletin No. SB 128-CS, Revision 0, dated May 15, 2013.

Note 1 to paragraphs (f)(2) and (f)(3) of this AD: Although Costruzioni Aeronautiche Tecnam Job Card 442, Revision 1, dated February 11, 2013, is designated P2006T NLG upper link replacement, it still pertains to the replacement of the lower link.

(3) Unless already done as required by paragraph (f)(2) of this AD, within the next 50 hours TIS after March 14, 2014 (the effective date of this AD) or within the next 60 days after March 14, 2014 (the effective date of this AD), whichever occurs first, replace the NLG lower link assembly P/N 26-8-1417-000 with an improved assembly. Follow the instructions in Costruzioni Aeronautiche Tecnam Job Card 442, P2006T NLG upper link replacement, Revision 1, dated February 11, 2013; Costruzioni Aeronautiche Tecnam Job Card 468, New NLG Spring replacement, dated October 12, 2012; or Costruzioni Aeronautiche Tecnam Job Card 528, P2006T NLG retraction spring installation, Revision 1, dated April 2, 2013, as applicable, as specified in the Costruzioni Aeronautiche Tecnam Service Bulletin No. SB 128-CS, Revision 0, dated May 15, 2013.

(4) After replacement of the NLG lower link assembly as required by paragraph (f)(2) or (f)(3) of this AD, as applicable, do not install an NLG lower link assembly P/N 26-8-1417-000 or an NLG lower link part P/N 26-8-1417-1 (this is in the NLG-000 assembly) on that airplane.

(5) For an airplane with an NLG lower link assembly P/N 26-8-8000-000 already installed, after the effective date of this AD, do not install an NLG lower link assembly P/N 26-8-1417-000 or a NLG lower link P/N 26-8-1417-1 on that airplane.

(g) Credit for Actions Done Following Previous Service Information

This AD provides credit for the inspection required in paragraph (f)(1) of this AD and any necessary replacement required in paragraphs (f)(2) or (f)(3) of this AD if already done before March 14, 2014 (the effective date of this AD) following Costruzioni Aeronautiche Tecnam Service Bulletin No. SB 104-CS, Edition 2, Revision 1, dated March 28, 2013.

(h) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI European Aviation Safety Agency (EASA) AD No.: 2013-0134, dated July 2, 2013, for more information. The MCAI can be found in the AD docket on the Internet at: http://www.regulations.gov/#!documentDetail;D=FAA-2013-0888-0003. You may also refer to Costruzioni Aeronautiche Tecnam Service Bulletin No. SB 104-CS, Edition 2, Revision 1, dated March 28, 2013, for more information. For service information related to this AD, you may contact the manufacturer using the information found in paragraph (j)(3) of this AD.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Costruzioni Aeronautiche Tecnam Service Bulletin No. SB 128-CS, Revision 0, dated May 15, 2013.

Note 2 to paragraph (j)(2)(i) of this AD: The Occurrence Report is not paginated. The correct pagination is page 3/3.

(ii) Costruzioni Aeronautiche Tecnam Cartone di lavoro (English translation: Job Card) 468, New NLG Spring replacement, dated October 12, 2012.

Note 3 to paragraphs (j)(2)(ii) through (j)(2)(iv) of this AD: This service information contains Italian to English translation. EASA used the English translation in referencing the documents from Costruzioni Aeronautiche Tecnam srl. For enforceability purposes, we will refer to the Costruzioni Aeronautiche Tecnam srl service information as the titles appear on the documents.

(iii) Costruzioni Aeronautiche Tecnam Cartone di lavoro (English translation: Job Card) 528, P2006T NLG retraction spring installation, Revision 1, dated April 2, 2013.

(iv) Costruzioni Aeronautiche Tecnam Cartone di lavoro (English translation: Job Card) 442, P2006T NLG upper link replacement, Revision 1, dated February 11, 2013.

(3) For Costruzioni Aeronautiche Tecnam srl service information identified in this AD, contact Costruzioni Aeronautiche Tecnam Airworthiness Office, Via Maiorise-81043 Capua (CE) Italy; telephone: +39 0823 620134; fax: +39 0823 622899; email: m.oliva@tecnam.com or g.paduano@tecnam.com; Internet: www.tecnam.com/it-IT/documenti/service-bulletins.aspx.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on January 23, 2014.
Earl Lawrence,
Manager, Small Airplane Directorate, Aircraft Certification Service.

[FR Doc. 2014-01957 Filed 2-6-14; 8:45 am]

BILLING CODE 4910-13-P